ENVIRONMENTAL PROTECTION AGENCY

40 CFR Part 52

[PA-4105a; FRL-7021-6]

Approval and Promulgation of Air Quality Implementation Plans; Pennsylvania; VOC and NOX RACT Determinations for Twenty-Five Individual Sources

AGENCY: Environmental Protection Agency (EPA).

ACTION: Direct final rule.

SUMMARY: EPA is taking direct final action to approve revisions to the Commonwealth of Pennsylvania's State Implementation Plan (SIP). The revisions establish and impose reasonably available control technology (RACT) for twenty-five major sources of volatile organic compounds (VOC) and nitrogen oxides (NOX) located in Pennsylvania. EPA is approving these in accordance with the Clean Air Act (CAA).

DATES: This rule is effective on October 5, 2001 without further notice, unless EPA receives adverse written comment by September 5, 2001. If EPA receives such comments, it will publish a timely withdrawal of the direct final rule in the Federal Register and inform the public that the rule will not take effect.

ADDRESSES: Written comments should be mailed to, David L. Arnold, Chief, Air Quality Planning & Information Services Branch, Air Protection Division, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW, Washington, DC 20460; and the Pennsylvania Department of Environmental Protection, Bureau of Air Quality Control, P.O. Box 8468, 400 Market Street, Harrisburg, Pennsylvania 17105.

FOR FURTHER INFORMATION CONTACT: Betty Harris at (215) 814-2168 or via e-mail at harris.betty@epa.gov. While information may be requested via e-mail, any comments must be submitted, in writing, as indicated above.

SUPPLEMENTARY INFORMATION:

I. Background

Pursuant to sections 182(b)(2) and 182(f) of the Clean Air Act (CAA), the Commonwealth of Pennsylvania (the Commonwealth or Pennsylvania) is required to establish and implement RACT for all major VOC and NOX sources. The major source size is determined by its location, the classification of that area and whether it is located in the ozone transport region (OTR). Under section 184 of the CAA, RACT as specified in sections 182(b)(2) and 182(f) applies throughout the OTR. The entire Commonwealth is located within the OTR. Therefore, RACT is applicable statewide in Pennsylvania.

State implementation plan revisions imposing reasonably available control technology (RACT) for three classes of VOC sources are required under section 182(b)(2). The categories are:

(1) All sources covered by a Control Technique Guideline (CTG) document issued between November 15, 1990 and the date of attainment;

(2) All sources covered by a CTG issued prior to November 15, 1990; and

(3) All major non-CTG sources. The regulations imposing RACT for these non-CTG major sources were to be submitted to EPA as SIP revisions by November 15, 1992 and compliance required by May of 1995.

The Pennsylvania SIP already includes approved RACT regulations for all sources and source categories covered by the CTGs. On February 4, 1994, the Pennsylvania Department of Environmental Protection (PADEP) submitted a revision to its SIP to require major sources of NOX and additional major sources of VOC emissions (not covered by a CTG) to implement RACT. The February 4, 1994 submittal was amended on May 3, 1994 to correct and clarify certain presumptive NOX RACT requirements. The regulations contain technology-based or operational “presumptive RACT emission limitations” for certain major NOX sources. For other major NOX sources, and all major non-CTG VOC sources (not otherwise already subject to RACT under the Pennsylvania SIP), the regulations contain a “generic” RACT provision. A generic RACT regulation is one that does not, itself, specifically define RACT for a source or source categories but instead allows for case-by-case RACT determinations. The generic provisions of Pennsylvania's regulations allow for PADEP to make case-by case RACT determinations that are then to be submitted to EPA as revisions to the Pennsylvania SIP. On March 23, 1998 EPA granted conditional limited approval to the Commonwealth's generic VOC and NOX RACT regulations (63 FR 13789). In that action, EPA stated that the conditions of its approval would be satisfied once the Commonwealth either (1) certifies that it has submitted case-by-case RACT proposals for all sources subject to the RACT requirements currently known to the Pennsylvania Department of Environmental Protection (PADEP); or (2) demonstrate that the emissions from any remaining subject sources represent a de minimis level of emissions as defined in the March 23, 1998 rulemaking. On April 22, 1999, PADEP made the required submittal to EPA certifying that it had met the terms and conditions imposed by EPA in its March 23, 1998 conditional limited approval of its VOC and NOX RACT regulations by submitting 485 case-by-case VOC/NOX RACT determinations as SIP revisions and making the demonstration described as condition 2, above. EPA determined that Pennsylvania's April 22, 1999 submittal satisfied the conditions imposed in its conditional limited approval published on March 23, 1998. On May 3, 2001 (66 FR 22123), EPA published a rulemaking action removing the conditional status of its approval of the Commonwealth's generic VOC and NOX RACT regulations on a statewide basis. The regulation currently retains its limited approval status. Once EPA has approved the case-by-case RACT determinations submitted by PADEP to satisfy the conditional approval, limited approval of Pennsylvania's generic VOC and NOX RACT regulations shall convert to a full approval.

It must be noted that the Commonwealth has adopted and is implementing additional “post RACT requirements” to reduce seasonal NOX emissions in the form of a NOX cap and trade regulation, 25 Pa Code Chapters 121 and 123, based upon a model rule developed by the States in the OTR. That rule's compliance date is May 1999. That regulation was approved as SIP revision on June 6, 2000 (65 FR 35842). Pennsylvania has also adopted regulations to satisfy Phase I of the NOX SIP call and submitted those regulations to EPA for SIP approval. Pennsylvania's SIP revision to address the requirements of the NOX SIP Call Phase I consists of the adoption of Chapter 145—Interstate Pollution Transport Reduction and amendments to Chapter 123—Standards for Contaminants. On May 29, 2001 (66 FR 29064), EPA proposed approval of the Commonwealth's NOX SIP call rule SIP submittal. EPA expects to publish the final rulemaking in the Federal Register in the near future. Federal approval of a case by case RACT determination for a major source of NOX in no way relieves that source from any applicable requirements found in 25 PA Code Chapters 121, 123 and 145.

II. Summary of the SIP Revision

On August 1, 1995, November 15, 1995, December 8, 1995, January 10, 1996, February 20, 1996, April 16, 1996, May 2, 1996, September 13, 1996, October 18, 1996, January 21, 1997, May 29, 1998, April 9, 1999, April 20, 1999, October 26, 1999 and May 1, 2000, PADEP submitted formal revisions to its SIP to establish and impose case by case RACT for several major sources of VOC and NOX. This rulemaking pertains to twenty-five of those sources. The other sources are the subject of separate rulemaking actions.

On September 13, 1996, November 15, 1995, December 8, 1995, January 10, 1996, October 18, 1996, May 29, 1998 and October 26, 1999, the Commonwealth submitted supplemental information pertaining to Armstrong World Industries; Bemis Company Inc., Film Division; Brentwood Industries, Inc.; Certainteed Corp., Mountaintop; CNG Transmissions, Ardell and Finnefrock Stations; Consolidated Rail Corporation, Holiday and Juanita locations; Equitrans Inc., Pratt and Rogersville Stations; Erie Coke Corp.; Fleetwood Folding Trailer Inc.; Gichner Systems Group Inc.; Offset PaperBack Manufacturing Inc.; and Stroehmann Bakeries Inc. On May 1, 2000, PADEP made a submittal for Gichner Systems Group Inc. which replaced the earlier February 20, 1996 submittal.

It is important to note that none of the sources covered by this rulemaking are located in the Philadelphia-Wilmington-Trenton or Pittsburgh-Beaver Valley designated ozone nonattainment areas. Accordingly, no emission reductions achieved by imposing RACT at these sources has been credited in any rate-of-progress plan or attainment demonstration.

EPA is approving revisions to the Pennsylvania SIP establishing and requiring VOC and/or NOX RACT for these twenty-five major sources. The RACT determinations and requirements are included in plan approvals or operating permits. Several of the plan approvals and operating permits issued by PADEP contain provisions which are no relevant to its case by case RACT determinations for NOX and/or VOC. These provisions are not part of Pennsylvania's SIP revision requests.

The following table identifies the individual plan approval (PA) or operating permits (OP) that EPA is approving.

Pennsylvania—VOC and NOX RACT determinations for individual sources: Source | Pennsylvania—VOC and NOX RACT determinations for individual sources: County | Pennsylvania—VOC and NOX RACT determinations for individual sources: OP or PA # Date of issuance | Pennsylvania—VOC and NOX RACT determinations for individual sources: Source type | Pennsylvania—VOC and NOX RACT determinations for individual sources: Major source pollutant
1 Advanced Glassfiber, Yarns LLC | Huntingdon | OP-31-02002 04/13/99 | Fiberglass manufacturing | VOC
2. Armstrong World Industries, Inc., Beech Creek | Clinton | OP-18-0002 07/06/95 | Printing | VOC/NOX
3. Bemis Company, Inc. Film Division | Luzerne | OP-40-0007A 10/10/95 | Printing | VOC
4. Brentwood Industries, Inc. | Berks | PA-06-1006A 06/03/99 | Plastics Manufacturing | VOC
5. Certainteed Corp., Mountaintop | Luzerne | OP-40-0010 05/31/96 | Synthetic materials manufacturing (fiberglass) | VOC/NOX
6. CNG Transmission Corp., Ardell Station | Elk | OP-24-120 09/30/95 | Natural gas transmission | VOC/NOX
7. CNG Transmission Corp., Finnnefrock Station | Clinton | PA-18-0003A 02/29/96 | Natural gas transmision | VOC/NOX
8. Consol Pennsylvania Coal Company, Bailey Prep Plant | Greene | OP-30-000-072 03/23/99 | Coal preparation | VOC/NOX
9. Consolidated Rail Corp., Hollidaysburg | Blair | OP-07-2002 08/29/95 | Metal—railroad equipment manufacturing | VOC
10. Consolidated Rail Corp., Juniata | Blair | OP-07-2003 08/29/95 | Metal—railroad equipment manufacturing | VOC/NOX
11. Containment Solutions, Inc. | Huntington | OP-31-02005 4/09/99 | Fiberglass reinforced plastics manufacturer | VOC
12. Cooper-Bessemer, Grove City | Mercer | OP-43-003 07/25/96 | Foundry | VOC/NOX
13. Cyprus Cumberland Resources Corp. | Greene | OP-30-000-040 03/26/99 | Coal preparation plant | VOC/NOX
14. Defense Distribution Region East | York | OP-67-02041 02/01/00 | Industrial boilers | VOC/NOX
15. EMI Company | Erie | OP-25-070 10/24/96 | Foundry iron/steel | VOC
16. Empire Sanitary Landfill, Inc. | Lackawanna | OP-35-0009 10/17/96 | Landfill flares | VOC
17. Equitrans, Inc.—Rogersville Station | Greene | OP-30-000-109 07/10/95 | Natural gas transmission | VOC/NOX
18. Equitrans, Inc.—Pratt Station | Greene | OP-30-000-110 07/10/95 | Natural gas transmission | VOC/NOX
19. Erie Coke Corp.—Erie | Erie | OP-25-029 07/27/95 | Coke manufacturing | VOC/NOX
20. Fleetwood Folding Trailers, Inc. | Somerset | OP-56-000-151 02/28/96 | Surface coating (metal trailers) | VOC
21. Gichner Systems Group, Inc. | York | OP-67-2033 08/05/97 | Portable shelter manufacturing | VOC
22. Offset Paperback Manufacturing, In., | Luzerne | OP-40-0008 04/16/99 | Lithographic Printing | VOC
23. Overhead Door Corporation | Mifflin | OP-44-2011 06/04/97 | Sectional door manufacturing | VOC
24. Sanyo Audio Manufacturing | Mifflin | OP-44-2003 06/30/95 | Wood cabinet manufacturing | VOC
25. Stroehmann Bakeries, Inc. | Luzerne | PA-40-0014A 05/30/95 | Baking Ovens | VOC

III. Final Action

EPA is approving revisions to the Commonwealth of Pennsylvania's SIP which establish and require RACT for the twenty-five major sources of VOC and NOX listed in this document. EPA is publishing this rule without prior proposal because we view this as a noncontroversial amendment and anticipate no adverse comment. However, in the “Proposed Rules” section of today's Federal Register, EPA is publishing a separate document that will serve as the proposal to approve the SIP revision if adverse comments are filed. This direct final rule will be effective on October 5, 2001 without further notice unless we receive adverse comment by September 5, 2001. If EPA receives adverse comment, EPA will publish a timely withdrawal in the Federal Register informing the public that the rule will not take effect. EPA will address all public comments in a subsequent final rule based on the proposed rule. EPA will not institute a second comment period on this action. Any parties interested in commenting must do so at this time. Please note that if adverse comment is received for a specific source or subset of source(s) covered by an amendment, paragraph, or section, only that amendment, paragraph, or section of this rule for that source or sources will be withdrawn.

IV. Administrative Requirements

A. General Requirements

Under Executive Order 12866 (58 FR 51735, October 4, 1993), this action is not a “significant regulatory action” and, therefore, is not subject to review by the Office of Management and Budget. For this reason, this action is also not subject to Executive Order 13211, “Actions Concerning Regulations That Significantly Affect Energy Supply, Distribution, or Use.” See 66 FR 28355, May 22, 2001. This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for 25 named sources.

C. Petitions for Judicial Review

Under section 307(b)(1) of the Clean Air Act, petitions for judicial review of this action must be filed in the United States Court of Appeals for the appropriate circuit by October 5, 2001. Filing a petition for reconsideration by the Administrator of this final rule does not affect the finality of this rule for the purposes of judicial review nor does it extend the time within which a petition for judicial review may be filed, and shall not postpone the effectiveness of such rule or action. This action approving the Commonwealth's source-specific RACT requirements to control VOC and NOX from 25 individual sources in Pennsylvania may not be challenged later in proceedings to enforce its requirements. (See section 307(b)(2).)

List of Subjects in 40 CFR Part 52

Environmental protection, Air pollution control, Hydrocarbons, Incorporation by reference, Nitrogen Oxides, Ozone, Reporting and record keeping requirements.

Dated: July 19, 2001.
Thomas C. Voltaggio,
Acting Regional Administrator, Region III.

40 CFR part 52 is amended as follows:

PART 52—[AMENDED]

1. The authority citation for Part 52 continues to read as follows:

Authority: 42 U.S.C. 7401 et seq.

Subpart NN—Pennsylvania

2. Section 52.2020 is amended by adding paragraph (c)(149) to read as follows:

§ 52.2020 Identification of plan.

* * * * *

(c) * * *

(149) Revisions to the Pennsylvania Regulations, Chapter 129.91 pertaining to VOC and NOX RACT, submitted on August 1, 1995, November 15, 1995, December 8, 1995, January 10, 1996, February 20, 1996, April 16, 1996, May 2, 1996, September 13, 1996, October 18, 1996, January 21, 1997, May 29, 1998, April 9, 1999, April 20, 1999, October 26, 1999 and May 1, 2000.

(i) Incorporation by reference.

(A) Letters submitted by the Pennsylvania Department of Environmental Protection transmitting source-specific VOC and/or NOX RACT determinations, in the form of plan approvals, operating permits, or compliance permits, or supplementary information, on the following dates: On August 1, 1995, November 15, 1995, December 8, 1995, January 10, 1996, February 20, 1996, April 16, 1996, May 2, 1996, September 13, 1996, October 18, 1996, January 21, 1997, May 29, 1998, April 9, 1999, April 20, 1999, October 26, 1999 and May 1, 2000.

(B) Plan approvals (PA) or Operating permits (OP):

(1) Advanced Glassfiber Yarns LLC, Huntingdon County, OP-31-02002, effective April 13, 1999, except for the expiration date and condition 3.

(2) Armstrong World Industries, Inc., Beech Creek, Clinton County, OP-18-0002, effective July 6, 1995, except for the expiration date and conditions 3, 4, 5, 7, 10, and 17 through 20 inclusive.

(3) Bemis Company, Inc., Luzerne County, OP-40-0007A, effective October 10, 1995, except for the expiration date and conditions 11 through 14 inclusive.

(4) Brentwood Industries Inc., Berks County, PA-06-1006A, effective June 3, 1999, except for the expiration date and conditions 4 and 14.

(5) CertainTeed Corporation, Mountaintop, Luzerne County, OP-40-0010, effective May 31, 1996, except for the expiration date and conditions 6 through 11 inclusive.

(6) CNG Transmission Corp., Ardell Station, Elk County. OP 24-120, effective September 30, 1995, except for the expiration date and conditions 3, 6, and 8 through 11 inclusive.

(7) CNG Transmission Corporation, Finnnefrock Station, Clinton County, PA-18-0003A, effective February 29, 1996, except for the expiration date and conditions 6, 7, and 9 through 19 inclusive.

(8) Consol Pennsylvania Coal Company, Bailey Prep Plant, Greene County, OP-30-000-072, effective March 23, 1999, except for the expiration date and conditions 11 through 14 inclusive.

(9) Consolidated Rail Corporation (CONRAIL), Hollidaysburg Car Shop, Blair County, OP-07-2002, effective August 29, 1995, except for the expiration date and conditions 3, 5, 6, 11 and 12.

(10) Consolidated Rail Corporation (CONRAIL), Juniata Locomotive Shop, Blair County, OP-07-2003, effective August 29, 1995, except for the expiration date and conditions 3, 5, 7, 8, and 9.

(11) Containment Solutions, Inc., Huntingdon County, OP-31-02005, effective April 9, 1999, except for the expiration date and condition 3.

(12) Cooper Energy Services, Grove City, Mercer County, OP-43-003, effective July 25, 1996, except for conditions 3, 4, 10 and 11.

(13) Cyprus Cumberland Resources Corp., Greene County, OP-30-000-040, effective March 26, 1999, except for the expiration date and conditions 7, 8, 10, 11 and 12.

(14) Defense Distribution Susquehanna, York County, OP-67-02041, effective February 1, 2000, except for the expiration date and condition 3; Condition 4. (Sources, Continued), Paragraphs I.d. and III; General Conditions, conditions 5 and 8; Presumptive RACT, conditions 9 and 10; Stack Test, conditions 11 through 14 inclusive, 16 and 17; and Recordkeeping and Reporting, conditions 18 through 22 inclusive.

(15) EMI Company, Erie County, OP-25-070, effective October 24, 1996.

(16) Empire Sanitary Landfill, Inc., Lackawanna County, OP-35-0009, effective October 17, 1996, except for the expiration date and conditions 14, 15 and 16.

(17) Equitrans, Inc., Rogersville Station, Greene County, 30-000-109, effective July 10, 1995, except for the expiration date and conditions 4, 5 and 6.

(18) Equitrans, Inc., Pratt Station, Greene County, 30-000-110, effective July 10, 1995, except for the expiration date and conditions 4, 5, 6, 9 and 11 through 20 inclusive.

(19) Erie Coke Corporation, Erie County, OP 25-029, effective June 27, 1995, except for conditions 5, and 10 through 15 inclusive.

(20) Fleetwood Folding Trailers, Inc., Somerset County, 56-000-151, effective February 28, 1996, except for the expiration date and condition 5.

(21) Gichner Systems Group, Inc., York County, 67-2033, effective August 5, 1997, except for the expiration date and conditions 3, 5, 6 and 7.

(22) Offset Paperback Manufacturers, Inc, Luzerne County, 40-0008, effective April 16, 1999, except for the expiration date and conditions 3, 4 and 16 through 20 inclusive.

(23) Overhead Door Corporation, Mifflin County, 44-2011, effective June 4, 1997, except for the expiration date and conditions 3 and 11.

(24) Sanyo Audio Manufacturing (USA), 44-2003, effective June 30, 1995, except for the expiration date and conditions 3, 4, and 7 through 10 inclusive.

(25) Stroehmann Bakeries, Inc., Luzerne County, 40-0014A, effective May 30, 1995, except for the expiration date and conditions 4, 7, 8, 9, 10 and 12.

(ii) Additional Materials—Other materials submitted by the Commonwealth of Pennsylvania in support of and pertaining to the RACT determinations for the sources listed in (i) (B), above.

[FR Doc. 01-19316 Filed 8-3-01; 8:45 am]

BILLING CODE 6560-50-P